DEPARTMENT OF COMMERCE

International Trade Administration

[A-557-824, A-583-871, A-549-846, A-552-835]

Boltless Steel Shelving Units Prepackaged for Sale From Malaysia, Taiwan, Thailand, and the Socialist Republic of Vietnam: Amended Final Affirmative Antidumping Duty Determination for Taiwan and Antidumping Duty Orders

AGENCY: Enforcement and Compliance, International Trade Administration, Department of Commerce.

SUMMARY: Based on affirmative final determinations by the U.S. Department of Commerce (Commerce) and the U.S. International Trade Commission (ITC), Commerce is issuing antidumping duty orders on boltless steel shelving units prepackaged for sale (boltless steel shelving) from India, Malaysia, Taiwan, Thailand, and the Socialist Republic of Vietnam (Vietnam). In addition, Commerce is amending its final determination with respect to boltless steel shelving from Taiwan to correct a ministerial error.

DATES: Applicable June 7, 2024.

FOR FURTHER INFORMATION CONTACT: Samuel Frost (Malaysia), Joy Zhang (Taiwan), Fred Baker (Thailand), and Eliza DeLong or Eric Hawkins (Vietnam), AD/CVD Operations, Offices III, V, and VI, Enforcement and Compliance, International Trade Administration, U.S. Department of Commerce, 1401 Constitution Avenue NW, Washington, DC 20230; telephone: (202) 482-8180, (202) 482-1168, (202) 482-2924, and (202) 482-3878 or (202) 482-1988, respectively.

SUPPLEMENTARY INFORMATION:

Background

In accordance with sections 735(d) and 777(i) of the Tariff Act of 1930, as amended (the Act), on April 19, 2024, Commerce published its affirmative final determinations in the less-than-fair-value (LTFV) investigations of boltless steel shelving from Malaysia, Taiwan, Thailand, and Vietnam.¹ In the investigation of boltless steel shelving from Taiwan, respondent Taiwan Shin Yeh Enterprise Co., Ltd. (Shin Yeh), submitted a timely allegation that Commerce made a ministerial error in the final determination.² We reviewed the allegation and determined that we had made a ministerial error in the final determination on boltless steel shelving from Taiwan. As a result, we are amending the final determination for Taiwan. See “Amendment to the Final Determination for Taiwan” section below for further discussion.

¹ See Boltless Steel Shelving Units Prepackaged for Sale from Malaysia: Final Affirmative Determination of Sales at Less-Than-Fair Value, 89 FR 28736 (April 19, 2024); Boltless Steel Shelving Units Prepackaged for Sale from Taiwan: Final Affirmative Determination of Sales at Less Than Fair Value, 89 FR 28741 (April 19, 2024) (Taiwan Final Determination); Boltless Steel Shelving Units Prepackaged for Sale from Thailand: Final Affirmative Determination of Sales at Less Than Fair Value, 89 FR 28738 (April 19, 2024); Boltless Steel Shelving Units Prepackaged for Sale from the Socialist Republic of Vietnam: Final Affirmative Determination of Sales at Less-Than-Fair-Value, 89 FR 28743 (April 19, 2024).

² See Shin Yeh's Letter, “Shin Yeh Request for Correction of Ministerial Error,” dated April 16, 2024 (Ministerial Error Allegation).

On June 3, 2024, the ITC notified Commerce of its final determinations, pursuant to section 735(d) of the Act, that an industry in the United States is materially injured within the meaning of section 735(b)(1)(A)(i) of the Act by reason of LTFV imports of boltless steel shelving from Malaysia, Taiwan, Thailand, and Vietnam.³

³ See ITC's Letter, Investigation No. 731-TA-1608-1611 (Final), dated June 3, 2024.

Scope of the Orders

The products covered by these orders are boltless steel shelving from Malaysia, Taiwan, Thailand, and Vietnam. For a complete description of the scope of these orders, see the appendix to this notice.

Amended Final Determination for Taiwan

On April 16, 2024, Shin Yeh timely alleged that Commerce had made a ministerial error in the Taiwan Final Determination with respect to the calculation of the dumping margin assigned to Shin Yeh.⁴ Edsal Manufacturing Co., Ltd. (the petitioner) submitted rebuttal comments to Shin Yeh's allegation on April 22, 2024.⁵ No other party made an allegation of ministerial errors. Commerce reviewed the record and, on May 9, 2024, agreed that the error alleged by Shin Yeh constituted a ministerial error within the meaning of section 735(e) of the Act and 19 CFR 351.224(f).⁶ Specifically, Commerce found that it had failed to make a correction to the commission offset variable in the margin program that it had made in the comparison-market program.⁷ Pursuant to 19 CFR 351.224(e), Commerce is amending the Taiwan Final Determination to reflect the correction of the ministerial error, as described in the Ministerial Error Memorandum.⁸ Based on the correction, Shin Yeh's final dumping margin changed from 8.09 to 7.03 percent. As a result, we are also revising the all-others rate for Taiwan from 8.09 to 7.03 percent. The amended estimated weighted-average dumping margins for Taiwan are listed in the “Estimated Weighted-Average Dumping Margins” section below.

⁴ See Ministerial Error Allegation.

⁵ See Petitioner's Letter, “Response to Shin Yeh's Ministerial Error Allegation,” dated April 22, 2024.

⁶ See Memorandum, “Less-Than-Fair-Value Investigation of Boltless Steel Shelving Units Prepackaged for Sale from Taiwan: Allegation of Ministerial Error in the Final Determination,” dated May 9, 2024 (Ministerial Error Memorandum).

⁷ See Memorandum, “Amended Final Determination Analysis Memorandum for Shin Yeh,” dated May 9, 2024.

⁸ Id.

Antidumping Duty Orders

On June 3, 2024, in accordance with section 735(d) of the Act, the ITC notified Commerce of its final determinations in these investigations, in which it found that an industry in the United States is materially injured by reason of imports of boltless steel shelving from Malaysia, Taiwan, Thailand, and Vietnam. Therefore, in accordance with section 735(c)(2) of the Act, Commerce is issuing these antidumping orders. Because the ITC determined that imports of boltless steel shelving from Malaysia, Taiwan, Thailand, and Vietnam are materially injuring a U.S. industry, unliquidated entries of such merchandise from Malaysia, Taiwan, Thailand, and Vietnam entered or withdrawn from warehouse for consumption, are subject to the assessment of antidumping duties.

Therefore, in accordance with section 736(a)(1) of the Act, Commerce will direct U.S. Customs and Border Protection (CBP) to assess, upon further instruction by Commerce, antidumping duty deposits equal to the amount by which the normal value of the merchandise exceeds the export price (or constructed export price) of the merchandise, for all relevant entries of boltless steel shelving from Malaysia, Taiwan, Thailand, and Vietnam. With the exception of entries occurring after the expiration of the provisional measures period and before publication of the ITC's final affirmative injury determinations, as further described below, antidumping duties will be assessed on unliquidated entries of boltless steel shelving from Malaysia, Taiwan, Thailand, and Vietnam, entered, or withdrawn from warehouse, for consumption, on or after November 29, 2023, the date of publication of the Preliminary Determinations.⁹

⁹ See Boltless Steel Shelving Units Prepackaged for Sale from Malaysia: Preliminary Affirmative Determination of Sales at Less Than Fair Value, Postponement of Final Determination, and Extension of Provisional Measures, 88 FR 83386 (November 29, 2023); Boltless Steel Shelving Units Prepackaged for Sale from Taiwan: Preliminary Affirmative Determination of Sales at Less Than Fair Value, Postponement of Final Determination, and Extension of Provisional Measures, 88 FR 83382 (November 29, 2023); Boltless Steel Shelving Units Prepackaged for Sale from Thailand: Preliminary Affirmative Determination of Sales at Less Than Fair Value, Postponement of Final Determination, and Extension of Provisional Measures, 88 FR 83389 (November 29, 2023); Boltless Steel Shelving Units Prepackaged for Sale from the Socialist Republic of Vietnam: Preliminary Affirmative Determination of Sales at Less Than Fair Value, Postponement of Final Determination, and Extension of Provisional Measures, 88 FR 83392 (November 29, 2023) (collectively, Preliminary Determinations). See also Boltless Steel Shelving Units Prepackaged for Sale from Thailand: Amended Preliminary Determination of Sales at Less-Than-Fair-Value, 89 FR 62 (January 2, 2024) and Boltless Steel Shelving Units Prepackaged for Sale from Thailand: Preliminary Affirmative Determination of Sales at Less Than Fair Value and Amended Preliminary Determination of Sales at Less Than Fair Value; Correction, 89 FR 4591 (January 24, 2024).

Continuation of Suspension of Liquidation and Cash Deposits

Except as noted in the “Provisional Measures” section of this notice, in accordance with section 735(c)(1)(B) of the Act, Commerce will instruct CBP to continue to suspend liquidation on all relevant entries of boltless steel shelving from Malaysia, Taiwan, Thailand, and Vietnam. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed in the table below. The all-others rate applies to all producers or exporters not specifically listed, as appropriate.

With respect to the order on Thailand, as indicated below, the estimated antidumping duty margin for Siam Metal Tech Co., Ltd. (Siam Metal) as the producer and exporter is zero. Therefore, entries of subject merchandise that are produced and exported by Siam Metal will not be subject to this order. Accordingly, Commerce will direct CBP not to suspend liquidation of, or to require cash deposits of estimated antidumping duties on, entries of subject merchandise produced and exported by Siam Metal. Therefore, in accordance with section 735(a)(4) of the Act and 19 CFR 351.204(e)(1), entries of subject merchandise from this producer/exporter combination will be excluded from the order. However, entries of subject merchandise from this company in any other producer/exporter combination, or by third parties that sourced subject merchandise from the excluded producer/exporter combination, will be subject to suspension of liquidation and cash deposits of estimated antidumping duties at the all-others rate.

Estimated Weighted-Average Dumping Margins

The estimated weighted-average dumping margins are as follows:

Malaysia
Exporter/producer | Dumping margins (percent)
Eonmetall Industries Sdn. Bhd | * 81.12
Nanjing Chervon Industry Co., Ltd | * 81.12
Wuxi Bote Electrical Apparatus Co., Ltd | * 81.12
All Others | 58.29
* Rate based on facts available with adverse inferences.

Taiwan
Exporter/producer | Dumping margins (percent)
Taiwan Shin Yeh Enterprise Co., Ltd | 7.03
Jin Yi Sheng Industrial Co., Ltd | * 78.12
All Others | 7.03
* Rate based on facts available with adverse inferences.

Thailand
Exporter/producer | Dumping margins (percent)
Bangkok Sheet Metal Public Co., Ltd | 2.75
Siam Metal Tech Co., Ltd | 0.00
All Others | 2.75

Vietnam
Exporter | Producer | Dumping margins (percent)
Xinguang (Vietnam) Logistic Equipment Co., Ltd | Xinguang (Vietnam) Logistic Equipment Co., Ltd | 181.60
Vietnam-Wide Entity |  | * 224.94
* Rate based on facts available with adverse inferences.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of boltless steel shelving from Malaysia, Taiwan, Thailand, and Vietnam, Commerce extended the four-month period to six months in each of these investigations. Commerce published the Preliminary Determinations on November 29, 2023.¹⁰

¹⁰ Id.

The extended provisional measures period, beginning on the date of publication of the Preliminary Determinations, ended on May 26, 2024. Therefore, in accordance with section 733(d) of the Act and our practice,¹¹ Commerce will instruct CBP to terminate the suspension of liquidation and to liquidate, without regard to antidumping duties, unliquidated entries of boltless steel shelving from Malaysia, Taiwan, Thailand, and Vietnam entered or withdrawn from warehouse, for consumption after May 26, 2024, the final day on which the provisional measures were in effect, until and through the day preceding the date of publication of the ITC's final affirmative injury determinations in the Federal Register. Suspension of liquidation and the collection of cash deposits will resume on the date of publication of the ITC's final determinations in the Federal Register.

¹¹ See, e.g., Certain Corrosion-Resistant Steel Products from India, India, the People's Republic of China, the Republic of Korea and Taiwan: Amended Final Affirmative Antidumping Determination for India and Taiwan, and Antidumping Duty Orders, 81 FR 48390, 48392 (July 25, 2016).

Establishment of the Annual Inquiry Service Lists

On September 20, 2021, Commerce published the final rule titled “Regulations to Improve Administration and Enforcement of Antidumping and Countervailing Duty Laws” in the Federal Register.¹² On September 27, 2021, Commerce also published the notice titled “Scope Ruling Application; Annual Inquiry Service List; and Informational Sessions” in the Federal Register.¹³ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁴

¹² See Regulations to Improve Administration and Enforcement of Antidumping and Countervailing Duty Laws, 86 FR 52300 (September 20, 2021) (Final Rule).

¹³ See Scope Ruling Application; Annual Inquiry Service List; and Informational Sessions, 86 FR 53205 (September 27, 2021) (Procedural Guidance).

¹⁴ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁵

¹⁵ This segment will be combined with the ACCESS Segment Specific Information (SSI) field, which will display the month in which the notice of the order or suspended investigation was published in the Federal Register, also known as the anniversary month. For example, for an order under case number A-000-000 that published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁶ the new annual inquiry service list will be in place until the following year, when the Opportunity Notice for the anniversary month of the order is published.

¹⁶ See Procedural Guidance, 86 FR at 53206.

Commerce may update an annual inquiry service list at any time as needed based on interested parties' amendments to their entries of appearance to remove or otherwise modify their list of members and representatives, or to update contact information. Changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁷ Accordingly, as stated above, the petitioners and foreign governments should submit their initial entry of appearance after publication of this notice in order to appear in the first annual inquiry service list. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹⁷ See Final Rule, 86 FR at 52335.

Notification to Interested Parties

This notice constitutes the antidumping duty orders with respect to boltless steel shelving from Malaysia, Taiwan, Thailand, and Vietnam pursuant to section 736(a) of the Act. Interested parties can find a list of antidumping duty orders currently in effect at https://www.trade.gov/data-visualization/adcvd-proceedings.

The amended Taiwan final determination and these antidumping duty orders are published in accordance with sections 735(e) and 736(a) of the Act and 19 CFR 351.224(e) and 19 CFR 351.211(b).

Dated: June 3, 2024.
Ryan Majerus,
Deputy Assistant Secretary for Policy and Negotiations performing the non-exclusive functions and duties of the Assistant Secretary for Enforcement and Compliance.

Appendix

Scope of the Orders

The scope of these orders covers boltless steel shelving units prepackaged for sale, with or without decks (boltless steel shelving). The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts, or screws. The vertical and horizontal support members for boltless steel shelving are assembled by methods such as, but not limited to, fitting a rivet, punched or cut tab, or other similar connector on one support into a hole, slot or similar receptacle on another support. The supports lock together to form the frame for the shelving unit, and provide the structural integrity of the shelving unit separate from the inclusion of any decking. The incidental use of nuts and bolts, or screws to add accessories, wall anchors, tie-bars or shelf supports does not remove the product from scope. Boltless steel shelving units may also come packaged as partially assembled, such as when two upright supports are welded together with front-to-back supports, or are otherwise connected, to form an end unit for the frame. The boltless steel shelving covered by these orders may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of: (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• wall-mounted shelving, defined as shelving that is hung on the wall and does not stand on, or transfer load to, the floor. The addition of a wall bracket or other device to attach otherwise freestanding subject merchandise to a wall does not meet the terms of this exclusion;

• wire shelving units, which consist of shelves made from wire that incorporates both a wire deck and wire horizontal supports (taking the place of the horizontal beams and braces) into a single piece with tubular collars that slide over the posts and onto plastic sleeves snapped on the posts to create the finished shelving unit;

• bulk-packed parts or components of boltless steel shelving units; and

• made-to-order shelving systems.

Subject boltless steel shelving enters the United States through Harmonized Tariff Schedule of the United States (HTSUS) statistical subheading 9403.20.0075. While the HTSUS subheading is provided for convenience and customs purposes, the written description of the scope of these orders is dispositive.

[FR Doc. 2024-12566 Filed 6-6-24; 8:45 am]

BILLING CODE 3510-DS-P